ENVIRONMENTAL PROTECTION AGENCY

40 CFR Part 63

[FRL-7168-1]

RIN 2060-AE78

National Emission Standards for Hazardous Air Pollutants From the Portland Cement Manufacturing Industry

AGENCY: Environmental Protection Agency (EPA).

ACTION: Direct final rule; amendments.

SUMMARY: The EPA is taking direct final action on targeted amendments to the national emission standards for the portland cement manufacturing industry promulgated on June 14, 1999 under the authority of section 112 of the Clean Air Act (CAA). The amendments make improvements to the implementation of the emission standards, primarily in the areas of applicability, testing, and monitoring to resolve issues and questions raised since promulgation of the rule.

DATES: This direct final rule is effective on July 5, 2002 without further notice, unless significant adverse comments are received by May 6, 2002.

If significant material adverse comments are received by May 6, 2002, this direct final rule will be withdrawn and the comments addressed in a subsequent final rule based on the proposed rule published elsewhere in this issue. If no significant material adverse comments are received, no further action will be taken on the proposal and this direct final rule will become effective on July 5, 2002.

ADDRESSES: Comments. By U.S. Postal Service, send comments (in duplicate, if possible) to: Air and Radiation Docket and Information Center (6102), Attention Docket Number A-92-53, U.S. EPA, 1200 Pennsylvania Avenue, NW., Washington, DC 20460. In person or by courier, deliver comments (in duplicate if possible) to: Air and Radiation Docket and Information Center (6102), Attention Docket Number A-92-53, Room M-1500, U.S. EPA, 401 M Street SW., Washington, DC 20460. The EPA requests that a separate copy also be sent to the contact person listed below.

FOR FURTHER INFORMATION CONTACT: Mr. Joseph Wood, P.E., Minerals and Inorganic Chemicals Group, Emission Standards Division (C504-05), Office of Air Quality Planning and Standards, U.S. EPA, Research Triangle Park, North Carolina 27711, telephone number (919) 541-5446, facsimile number (919) 541-5600, electronic mail address: wood.joe@epa.gov.

SUPPLEMENTARY INFORMATION: Comments. We are publishing this direct final rule without prior proposal because we view the amendments as noncontroversial and do not anticipate adverse comments. We anticipate no adverse comment because EPA received no adverse comment when we published a document in the Federal Register on the settlement agreement relating to these amendments (66 FR 50643, October 4, 2001). However, in the Proposed Rules section of this Federal Register, we are publishing a separate document that will serve as the proposal to amend the emissions standards for the portland cement manufacturing industry promulgated on June 14, 1999, if adverse comments are filed.

If we receive any relevant adverse comments on one or more distinct amendments, we will publish a timely withdrawal in the Federal Register informing the public which provisions will become effective and which provisions are being withdrawn due to adverse comment. We will address all public comments in a subsequent final rule based on the proposed rule. Any of the distinct amendments in today's rule for which we do not receive adverse comment will become effective on the date set out above. We will not institute a second comment period on this direct final rule. Any parties interested in commenting must do so at this time.

Docket. The docket is an organized and complete file of all the information considered by EPA in the development of this direct final rule. The docket is a dynamic file because material is added throughout the rulemaking process. The docketing system is intended to allow members of the public and industries involved to readily identify and locate documents so that they can effectively participate in the rulemaking process. Along with the proposed and promulgated rules and their preambles, the contents of the docket will serve as the record in the case of judicial review. The docket number for this rulemaking is A-92-53.

Worldwide Web (WWW). In addition to being available in the docket, an electronic copy of this action will also be available through the WWW. Following signature, a copy of this action will be posted on EPA's Technology Transfer Network (TTN) policy and guidance page for newly proposed or promulgated rules: http://www.epa.gov/ttn/oarpg. The TTN at EPA's web site provides information and technology exchange in various areas of air pollution control. If more information regarding the TTN is needed, call the TTN HELP line at (919) 541-5384.

Regulated Entities. Entities potentially regulated by this action are those that manufacture portland cement. Regulated categories and entities include:

Category | NAICS | SIC | Examples of regulated entities
Industry | 32731 | 3241 | Owners or operators of portland cement manufacturing plants.
State | 32731 | 3241 | Owners or operators of portland cement manufacturing plants.
Tribal associations | 32731 | 3241 | Owners or operators of portland cement manufacturing plants.
Federal agencies | None | None | None.

This table is not intended to be exhaustive, but rather provides a guide for readers regarding entities likely to be regulated by this action. This table lists the types of entities that the EPA is now aware could potentially be regulated by this action. To determine whether your facility, company, business organization, etc., is regulated by this action, you should carefully examine the applicability criteria in § 63.1340 of the rule. If you have questions regarding the applicability of this action to a particular entity, consult the person listed in the preceding FOR FURTHER INFORMATION CONTACT section.

Judicial Review. Under section 307(b)(1) of the CAA, judicial review of this direct final rule is available only by filing a petition for review in the U.S. Court of Appeals for the District of Columbia Circuit by June 4, 2002. Under section 307(d)(7)(B) of the CAA, only an objection to this direct final rule that was raised with reasonable specificity during the period for public comment can be raised during judicial review. Moreover, under section 307(b)(2) of the CAA, the requirements established by this direct final rule may not be challenged separately in any civil or criminal proceedings brought by the EPA to enforce these requirements.

Outline. The following outline is provided to aid in reading this preamble to this direct final rule.

I. Background

II. Amendments to the NESHAP

A. Applicability and Designation of Affected Sources

B. Operating Limits for Kilns and In-line Kiln/Raw Mills

C. Performance Testing Requirements

D. Monitoring Requirements

E. PM and Opacity Compliance Waiver During PM CEM Testing

F. Compliance Dates

III. Administrative Requirements

A. Executive Order 12866, Regulatory Planning and Review

B. Executive Order 13132, Federalism

C. Executive Order 13175, Consultation and Coordination with Indian Tribal Governments

D. Executive Order 13045, Protection of Children from Environmental Health Risks and Safety Risks

E. Executive Order 13211, Actions Concerning Regulations that Significantly Affect Energy Supply, Distribution, or Use

F. Unfunded Mandates Reform Act of 1995

G. Regulatory Flexibility Act, as Amended by the Small Business Regulatory Enforcement Act of 1996 (SBREFA), 5 U.S.C. 601 et seq.

H. Paperwork Reduction Act

I. National Technology Transfer and Advancement Act of 1995

J. Congressional Review Act

I. Background

On June 14, 1999, we published in the Federal Register the final rule entitled, “National Emission Standards for Hazardous Air Pollutants From the Portland Cement Manufacturing Industry” (40 CFR part 63, subpart LLL). The American Portland Cement Alliance (APCA) petitioned the United States Court of Appeals for the District of Columbia Circuit for review of the final rule under section 307(b)(1) of the CAA. (See 42 U.S.C. 7607(b)(1).) The APCA and the EPA negotiated and have agreed to the terms of a Settlement Agreement and its implementation.

The action taken today is consistent with the terms of the Settlement Agreement and reflects EPA's judgment that these amendments improve the rule's implementation. Today's action makes specific changes to the NESHAP for the portland cement manufacturing industry, generally relating to applicability, performance testing, and monitoring.

The portland cement NESHAP contains emission limitations for hazardous air pollutants (HAP) emitted by portland cement manufacturing sources. In a separate action, some of those emission limitations were remanded to EPA by the court in National Lime Association v. EPA, 233 F. 3d 625 (D.C. Cir. 2000). Today's direct final rule does not deal with any of the issues which were remanded to EPA, rather, the direct final rule amends certain provisions of the final rule dealing largely with issues of implementation.

II. Amendments to the NESHAP

A. Applicability and Designation of Affected Sources

A “bin” is one of the affected sources listed in § 63.1340 of the final rule, i.e., a source of emissions that is subject to emissions standards in the rule. The term is not defined in the rule, which leads to potential confusion. We are, therefore, adding a definition of “bin” to clarify the applicability of the rule. We define “bin” as a manmade enclosure for storage of raw materials, clinker, or finished product prior to the further processing of these materials at a portland cement plant.

Today's action revises § 63.1340(c) of the final rule to clarify that primary and secondary crushers are not subject to the final rule regardless of their location in the production line relative to raw material storage. This was the intent of the final rule. (See 63 FR 14194, March 24, 1998 and 64 FR 31900, June 14, 1999.) However, portland cement manufacturers pointed out that the provision, as it appears in the final rule, could be interpreted to apply to crushers if they follow raw material storage:

* * * The primary and secondary crushers and any other equipment of the on-site nonmetallic mineral processing plant which precedes the raw material storage are not subject to this subpart.* * *

Portland cement manufacturers pointed out that crushers may follow the raw material storage in the production line. We did not intend that the final rule apply to crushers because we wanted to maintain consistency with 40 CFR part 60, subpart F, the new source performance standards (NSPS) for the portland cement industry. We are, therefore, amending the final rule to clarify that primary and secondary crushers are not covered by the final rule regardless of their location relative to raw material storage.

Section 63.1356 of the final rule is being revised to clarify that the systems used to convey and transfer coal from the coal mill to the kiln at portland cement plants that are major sources of HAP are not subject to the NSPS for coal preparation plants (40 CFR part 60, subpart Y). The final portland cement NESHAP already cover conveying system transfer points associated with coal preparation plants at portland cement plants that are major sources. There is no need for these sources to be subject to duplicative requirements, i.e., to also be covered by the NSPS for coal preparation plants. Further, these emission sources will be subject to more stringent opacity requirements (10 percent) under the NESHAP than under the NSPS for coal preparation plants (40 CFR part 60, subpart Y). Other coal conveying transfer points will continue to be subject to the NSPS for coal preparation plants.

The list of affected sources in § 63.1340(b)(7) of the final rule is being amended to clarify that coal conveying system transfer points associated with conveying of coal from the mill to the kiln are included as affected sources.

Section 63.1356(a) of the final rule is being revised to clarify that in exempting affected sources subject to the portland cement NESHAP from duplicative requirements under 40 CFR part 60, subpart F, it was not our intention that these sources would then become affected sources under the requirements of 40 CFR part 60, subpart OOO (NSPS for Nonmetallic Mineral Processing Plants). The requirements of 40 CFR part 60, subpart OOO may apply to certain sources at a portland cement plant depending on whether or not 40 CFR part 60, subpart F, applies to that source. In particular, 40 CFR 60.670(b) states that if an emission source is subject to 40 CFR part 60, subpart F, or follows in the plant process a source that is subject to subpart F, then 40 CFR part 60, subpart OOO does not apply to that source. The purpose of § 63.1356(a) of the final rule is to avoid having a source that is subject to certain requirements under this subpart also be subject to the same requirements under 40 CFR part 60, subparts F or OOO.

The list of affected sources in the portland cement NESHAP is being amended by combining into one paragraph the affected sources, “bagging system” and “bulk loading or unloading system,” making the rule language consistent with the NSPS for portland cement plants (40 CFR part 60, subpart F).

B. Operating Limits for Kilns and In-line Kiln/Raw Mills

Section 63.1344(a)(3) of the final rule is being revised to indicate that the operating limit for gas stream temperature pertaining to the inlet to the alkali bypass particulate matter (PM) control device may be established during a performance test either with or without the raw mill being in operation. This revision provides additional flexibility in that the test for dioxin/furan (D/F) emissions from the alkali bypass may be conducted whether the raw mill is operating or not since D/F emissions in the alkali bypass are not affected by the operation of the raw mill. Alkali bypass emissions are not affected by the operation of the raw mill since the alkali bypass gas stream does not pass through the raw mill.

C. Performance Testing Requirements

Today's direct final rule revises the performance testing requirements in 40 CFR 63.1349(e) to clarify conditions under which changes in operation will require repeat performance testing. This revision provides a more understandable description of the criteria for determining when the performance tests need to be repeated. In the current final rule, a new performance test is required if there is a “significant change in feed or fuel from that used in the previous performance test.” Under today's amendments, a new test is required if a change in operations may adversely affect compliance. This allows sources the flexibility to make changes in their kiln's operation without having to retest (and establish new temperature operating limits for D/F) if the change will not adversely affect compliance. Further, if the operational change will only adversely affect compliance with one of the pollutant emission limits (for example, PM, but not D/F), then the source will only be required to retest for that one pollutant. This amendment may be less costly to industry (e.g., test only if compliance may be adversely affected versus test after any significant change in feed or fuels, which is largely pointless if compliance is not adversely affected), while being at least equally protective. This amendment is also consistent with and reaffirms § 63.7(e) of the General Provisions in 40 CFR part 63, subpart A, which states that performance tests must be conducted under representative conditions.

Section 63.1349(e) of the final rule is further amended by adding paragraphs (e)(3)(i) through (iv). This amendment will allow a source that is required to conduct a new performance test under paragraph (e)(1) of this section to operate under the planned operational change conditions for a period not to exceed 360 hours, provided that certain conditions are met. This amendment allows the source sufficient time to (1) equilibrate the operation of the kiln after the change has occurred (which could take days), (2) conduct any emissions checks (pretests) prior to the actual performance test, and (3) conduct the actual performance test. The time required to conduct a performance test could exceed 1 week, especially if both PM and D/F tests are to be conducted, and if both the main and alkali bypass stacks need to be tested. However, the 360-hour waiver is allowed only if certain requirements are met. If the source is conducting a D/F test to reestablish a new temperature operating limit, the source must submit temperature monitoring data for the entire pretest period and document the results of the performance test. Prior notice must be given to the Administrator of the planned change and once the planned operational period begins, the source must conduct and complete the performance test within 360 hours. The requirement that the source must actually conduct the performance test prevents a source from falsely claiming an operational change is needed in order to obtain the 360-hour waiver.

Today's direct final rule amends § 63.1349(b) of the final rule to require performance testing under “representative” conditions rather than under “the highest load or capacity reasonably expected to occur.” This amendment makes the NESHAP consistent with the General Provisions' requirements (cited above) that performance tests be conducted under representative conditions. The implication of this amendment is that the performance test should be conducted at the highest production rate at which the kiln normally would operate. If the kiln is operated under a condition not representative of the condition during the performance test, e.g., the kiln is operated at a production rate higher than the production rate at which it was tested, the performance test will need to be re-conducted and temperature limit(s) reestablished. This is in accordance with today's amendments to 40 CFR 63.1349(e) which state that a new performance test is required if a change in operations may adversely affect compliance.

Today's action amends § 63.1349(b)(3) of the final rule to allow the D/F performance test of an alkali bypass associated with an in-line kiln/raw mill to be conducted either with the raw mill operating or with the raw mill not operating. This amendment is consistent with the amendment to § 63.1344(a)(3) (discussed earlier) allowing the operating limit affecting the temperature at the inlet to the alkali bypass PM control device to be established either with the raw mill operating or with the raw mill not operating. This will provide greater flexibility since D/F emissions in the alkali bypass are not affected by the operation of the raw mill.

D. Monitoring Requirements

Corresponding to the amendments requiring that performance tests be conducted under representative performance conditions, paragraphs (c)(2)(i), (d)(2)(i), and (e) of 40 CFR 63.1350 are being amended to require that the daily manual observations of opacity or visible emissions (VE) be conducted under representative performance conditions as well.

Section 63.1350(k) of the final rule requires affected sources to install PM continuous emission monitors (CEM). However, as noted in the Settlement Agreement, we agreed to state in this preamble that § 63.1350(k) of the final rule currently requires sources to install PM CEM, but does not specify a deadline by which sources would be required to comply with this requirement.

We are amending the requirements of § 63.1350(e)(2) of the final rule to conduct follow-up VE tests when VE were observed previously. This amendment allows the source to have 2 consecutive calendar days of visible emissions prior to having to conduct a follow-up test by Method 9 (40 CFR part 60, appendix A). The final rule as promulgated requires a Method 9 test be conducted within 24 hours for a particular raw or finish mill if VE are observed during the daily test by Method 22 (40 CFR part 60, appendix A). We agree with industry that this may be overly burdensome since the presence of VE does not necessarily indicate whether a source is in violation of the 10 percent opacity limit. Further, if VE are observed, corrective action may be taken by the source to eliminate the emissions prior to the subsequent Method 22 test and, thereby, eliminate the emissions and avoid having to do a more costly Method 9 test.

Section 63.1350 of the final rule is being amended to give sources the option of installing continuous monitoring systems on raw mills and finish mills in place of daily Method 22 testing, which is required in the final rule. This amendment allows a source the option to use continuous monitoring equipment (e.g., continuous opacity monitors or bag leak detectors) in lieu of the manual measurement (Method 22) of VE and opacity. We believe that these continuous monitoring options are just as effective in demonstrating compliance as the currently required manual methods. Some sources may prefer to use these instruments in lieu of daily visual monitoring.

We are revising the requirements of § 63.1350(a)(4) of the final rule so that Method 22 VE monitoring is not required for conveying system transfer points if they are totally enclosed. This amendment eliminates the need for VE monitoring at totally enclosed transfer points, since we expect minimal VE from such transfer points. As indicated in the Settlement Agreement with the APCA, “the enclosures for these transfer points shall be operated and maintained as total enclosures on a continuing basis in accordance with the facility operations and maintenance plan.” The other amendments to § 63.1350(a)(4) provide procedures for monitoring of VE for transfer points inside buildings.

We are also revising Table 1 to subpart LLL to clarify that § 63.6(h)(7) of the NESHAP General Provisions applies to the final rule. The EPA inadvertently omitted this table entry from the final rule.

E. PM and Opacity Compliance Waiver During PM CEM Testing

Section 63.1357 of the final rule specifies the conditions under which an owner or operator is exempt from compliance with PM and opacity standards for the purpose of conducting tests to correlate PM CEM with manual method results. The final rule provides a 96-hour waiver from compliance. For sources that do choose to use a PM CEM, we are clarifying that they may petition us for additional time for the waiver from the PM and opacity limits during the correlation testing if additional time is needed to finish the PM CEM correlation testing.

F. Compliance Dates

Section 63.1351 of the final rule is being revised to correct erroneous compliance deadlines specified in the final rule. This amendment adds a few more days to the compliance date to give an existing source a full 3 years to comply with the standards. We are also changing the compliance date for new sources to coincide with the publication date of the final rule in the Federal Register.

III. Administrative Requirements

A. Executive Order 12866, Regulatory Planning and Review

Under Executive Order 12866 (58 FR 5173, October 4, 1993), the EPA must determine whether the regulatory action is “significant” and therefore subject to Office of Management and Budget (OMB) review and the requirements of the Executive Order. The Executive Order defines “significant regulatory action” as one that is likely to result in standards that may:

(1) Have an annual effect on the economy of $100 million or more or adversely affect, in a material way, the economy, a sector of the economy, productivity, competition, jobs, the environment, public health or safety, or State, local, or tribal governments or communities;

(2) Create a serious inconsistency or otherwise interfere with an action taken or planned by another agency;

(3) Materially alter the budgetary impact of entitlement, grants, user fees, or loan programs or the rights and obligations of recipients thereof; or

(4) Raise novel legal or policy issues arising out of legal mandates, the President's priorities, or the principles set forth in the Executive Order.

Pursuant to the terms of Executive Order 12866, it has been determined that these amendments do not constitute a “significant regulatory action” because they do not meet any of the above criteria. Consequently, this action was not submitted to OMB for review under Executive Order 12866.

B. Executive Order 13132, Federalism

Executive Order 13132, entitled “Federalism” (64 FR 43255, August 10, 1999), requires EPA to develop an accountable process to ensure “meaningful and timely input by State and local officials in the development of regulatory policies that have Federalism implications.” “Policies that have Federalism implications” is defined in the Executive Order to include regulations that have “substantial direct effects on the States, on the relationship between the national government and the States, or on the distribution of power and responsibilities among the various levels of government.”

The rule amendments do not have federalism implications. They will not have substantial direct effects on the States, on the relationship between the national government and the States, or on the distribution of power and responsibilities among the various levels of government, as specified in Executive Order 13132, because State and local governments do not own or operate any sources that would be subject to the amendments. Thus, Executive Order 13132 does not apply to this direct final rule.

C. Executive Order 13175, Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” This final rule does not have tribal implications, as specified in Executive Order 13175, because tribal governments do not own or operate any sources subject to the amendments. Thus, Executive Order 13175 does not apply to this rule.

D. Executive Order 13045, Protection of Children From Environmental Health Risks and Safety Risks

Executive Order 13045 applies to any rule that EPA determines (1) is “economically significant” as defined under Executive Order 12866, and (2) the environmental health or safety risk addressed by the rule has a disproportionate effect on children. If the regulatory action meets both criteria, the Agency must evaluate the environmental health or safety effects of the planned rule on children and explain why the planned regulation is preferable to other potentially effective and reasonably feasible alternatives considered by the Agency.

This direct final rule is not subject to Executive Order 13045, because it is not an economically significant regulatory action as defined by Executive Order 12866, and because it is based on technology performance and not on health or safety risks.

E. Executive Order 13211, Actions Concerning Regulations That Significantly Affect Energy, Supply, Distribution, or Use

This direct final rule is not subject to Executive Order 13211, “Actions Concerning Regulations That Significantly Affect Energy Supply, Distribution, or Use” (66 FR 28355, May 22, 2001) because it is not a significant regulatory action under Executive Order 12866.

F. Unfunded Mandates Reform Act of 1995

Title II of the Unfunded Mandates Reform Act of 1995 (UMRA), Public Law 104-4, establishes requirements for Federal agencies to assess the effects of their regulatory actions on State, local, and tribal governments and the private sector. Under section 202 of the UMRA, the EPA generally must prepare a written statement, including a cost-benefit analysis, for proposed and final rules with “Federal mandates” that may result in expenditures to State, local, and tribal governments, in the aggregate, or to the private sector, of $100 million or more in any 1 year. Before promulgating an EPA rule for which a written statement is needed, section 205 of the UMRA generally requires the EPA to identify and consider a reasonable number of regulatory alternatives and adopt the least costly, most cost-effective or least burdensome alternative that achieves the objectives of the rule. The provisions of section 205 do not apply when they are inconsistent with applicable law. Moreover, section 205 allows the EPA to adopt an alternative other than the least costly, most cost-effective, or least burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that this direct final rule does not contain a Federal mandate that may result in expenditures of $100 million or more for State, local, and tribal governments, in aggregate, or the private sector in any 1 year, nor does the direct final rule significantly or uniquely impact small governments, because it contains no requirements that apply to such governments or impose obligations upon them. Thus, the requirements of the UMRA do not apply to this direct final rule.

G. Regulatory Flexibility Act, As Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

After considering the economic impacts of today's final rule on small entities, I certify that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the proposed rule on small entities.” 5 U.S.C. Sections 603 and 604. Thus, an agency may certify that a rule will not have a significant economic impact on a substantial number of small entities if the rule relieves regulatory burden, or otherwise has a positive effect on the small entities subject to the rule. The amendments in today's rule make improvements to the emission standards, primarily by clarifying issues in the areas of applicability, testing, and monitoring. We have therefore concluded that today's final rule will have no adverse impacts on any small entities and may relieve burden in some cases.

Although the direct final rule will not have a significant economic impact on a substantial number of small entities, we worked with portland cement industry, including small entities, throughout the rulemaking process. Meetings were held on a regular basis with industry representatives in connection with the settlement agreement, to discuss the development of the direct final rule, exchange information, and solicit comments on final rule requirements.

H. Paperwork Reduction Act

The information collection requirements in the final rule were submitted to and approved by OMB under the Paperwork Reduction Act, 44 U.S.C. 3501 et seq. and assigned OMB control No. 2060-0416. An Information Collection Request (ICR) document was prepared by EPA (ICR No. 1801.02) and a copy may be obtained from Sandy Farmer by mail at Office of Environmental Information, Collection Strategies Division (2822), U.S. EPA, 1200 Pennsylvania Avenue, NW, Washington DC 20460, by email at farmer.sandy@epamail.epa.gov, or by calling (202) 260-2740. A copy may also be downloaded from the internet at http://www.epa.gov/icr.

Today's action makes clarifying changes to the promulgated rule and imposes no new information collection requirements on industry. Because only clarifying changes are being made, there is no additional burden on industry as a result of this direct final rule and the ICR has not been revised.

I. National Technology Transfer and Advancement Act

Section 12(d) of the National Technology Transfer and Advancement Act of 1995 (“NTTAA”), Public Law 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

Because today's action contains no new test methods, sampling procedures or other technical standards, there is no need to consider the availability of voluntary consensus standards.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. This direct final rule is not a “major rule” as defined by 5 U.S.C. 804(2). This direct final rule will be effective on July 5, 2002, unless significant adverse comments are received by May 6, 2002.

List of Subjects in 40 CFR Part 63

Environmental protection, Administrative practice and procedure, Air pollution control, Reporting and recordkeeping requirements.

Dated: March 28, 2002.
Christine Todd Whitman,
Administrator.

For the reasons stated in the preamble, title 40, chapter 1, part 63 of the Code of Federal Regulations is amended as follows:

PART 63—[AMENDED]

1. The authority citation for part 63 continues to read as follows:

Authority: 42 U.S.C. 7401, et seq.

Subpart LLL—[Amended]

2. Section 63.1340 is amended by revising paragraphs (b)(7) and (8), deleting paragraph (b)(9), and revising paragraph (c) to read as follows:

§ 63.1340 Applicability and designation of affected sources.

* * * * *

(b) * * *

(7) Each conveying system transfer point including those associated with coal preparation used to convey coal from the mill to the kiln at any portland cement plant which is a major source; and

(8) Each bagging and bulk loading and unloading system at any portland cement plant which is a major source.

(c) For portland cement plants with on-site nonmetallic mineral processing facilities, the first affected source in the sequence of materials handling operations subject to this subpart is the raw material storage, which is just prior to the raw mill. Any equipment of the on-site nonmetallic mineral processing plant which precedes the raw material storage is not subject to this subpart. In addition, the primary and secondary crushers of the on-site nonmetallic mineral processing plant, regardless of whether they precede the raw material storage, are not subject to this subpart. Furthermore, the first conveyor transfer point subject to this subpart is the transfer point associated with the conveyor transferring material from the raw material storage to the raw mill.

* * * * *

3. Section 63.1341 is amended by adding in alphabetical order the definition for the term Bin to read as follows:

§ 63.1341 Definitions.

* * * * *

Bin means a manmade enclosure for storage of raw materials, clinker, or finished product prior to further processing at a portland cement plant.

* * * * *

4. Section 63.1344 is amended by revising paragraph (a)(3) to read as follows:

§ 63.1344 Operating limits for kilns and in-line kiln/raw mills.

(a) * * *

(3) If the in-line kiln/raw mill is equipped with an alkali bypass, the applicable temperature limit for the alkali bypass specified in paragraph (b) of this section and established during the performance test, with or without the raw mill operating, is not exceeded.

* * * * *

5. Section 63.1349 is amended by revising paragraphs (b)(1)(i), (b)(2), (b)(3), (b)(3)(i), (e), and Table 1 to § 63.1349 to read as follows:

§ 63.1349 Performance testing requirements.

* * * * *

(b) * * *

(1) * * *

(i) Method 5 of appendix A to part 60 of this chapter shall be used to determine PM emissions. Each performance test shall consist of three separate runs under the conditions that exist when the affected source is operating at the representative performance conditions in accordance with § 63.7(e). Each run shall be conducted for at least 1 hour, and the minimum sample volume shall be 0.85 dscm (30 dscf). The average of the three runs shall be used to determine compliance. A determination of the PM collected in the impingers (“back half”) of the Method 5 particulate sampling train is not required to demonstrate initial compliance with the PM standards of this subpart. However, this shall not preclude the permitting authority from requiring a determination of the “back half” for other purposes.

* * * * *

(2) The owner or operator of any affected source subject to limitations on opacity under this subpart that is not subject to paragraph (b)(1) of this section shall demonstrate initial compliance with the affected source opacity limit by conducting a test in accordance with Method 9 of appendix A to part 60 of this chapter. The performance test shall be conducted under the conditions that exist when the affected source is operating at the representative performance conditions in accordance with § 63.7(e). The maximum 6-minute average opacity exhibited during the test period shall be used to determine whether the affected source is in initial compliance with the standard. The duration of the Method 9 performance test shall be 3 hours (30 6-minute averages), except that the duration of the Method 9 performance test may be reduced to 1 hour if the conditions of paragraphs (b)(2)(i) through (ii) of this section apply:

* * * * *

(3) The owner or operator of an affected source subject to limitations on D/F emissions under this subpart shall demonstrate initial compliance with the D/F emission limit by conducting a performance test using Method 23 of appendix A to part 60 of this chapter. The owner or operator of an in-line kiln/raw mill shall demonstrate initial compliance by conducting separate performance tests while the raw mill of the in-line kiln/raw mill is under normal operating conditions and while the raw mill of the in-line kiln/raw mill is not operating. The owner or operator of a kiln or in-line kiln/raw mill equipped with an alkali bypass shall conduct simultaneous performance tests of the kiln or in-line kiln/raw mill exhaust and the alkali bypass. However, the owner or operator of an in-line kiln/raw mill may conduct a performance test of the alkali bypass exhaust when the raw mill of the in-line kiln/raw mill is operating or not operating.

(i) Each performance test shall consist of three separate runs; each run shall be conducted under the conditions that exist when the affected source is operating at the representative performance conditions in accordance with § 63.7(e). The duration of each run shall be at least 3 hours, and the sample volume for each run shall be at least 2.5 dscm (90 dscf). The concentration shall be determined for each run, and the arithmetic average of the concentrations measured for the three runs shall be calculated and used to determine compliance.

* * * * *

(e)(1) If a source plans to undertake a change in operations that may adversely affect compliance with an applicable D/F standard under this subpart, the source must conduct a performance test and establish new temperature limit(s) as specified in paragraph (b)(3) of this section.

(2) If a source plans to undertake a change in operations that may adversely affect compliance with an applicable PM standard under § 63.1343, the source must conduct a performance test as specified in paragraph (b)(1) of this section.

(3) In preparation for and while conducting a performance test required in paragraph (e)(1) of this section, a source may operate under the planned operational change conditions for a period not to exceed 360 hours, provided that the conditions in paragraphs (e)(3)(i) through (iv) of this section are met. The source shall submit temperature and other monitoring data that are recorded during the pretest operations.

(i) The source must provide the Administrator written notice at least 60 days prior to undertaking an operational change that may adversely affect compliance with an applicable standard under this subpart, or as soon as practicable where 60 days advance notice is not feasible. Notice provided under this paragraph shall include a description of the planned change, the emissions standards that may be affected by the change, and a schedule for completion of the performance test required under paragraph (e)(1) of this section, including when the planned operational change period would begin.

(ii) The performance test results must be documented in a test report according to paragraph (a) of this section.

(iii) A test plan must be made available to the Administrator prior to testing, if requested.

(iv) The performance test must be conducted, and it must be completed within 360 hours after the planned operational change period begins.

* * * * *

Table 1 to § 63.1349.—Summary of Performance Test Requirements
Affected source and pollutant | Performance test
New and existing kiln and in-line kiln/raw mil b c PM | EPA Method 5 ᵃ.
New and existing kiln and in-line kiln/raw mill b c Opacity | COM if feasibled e or EPA Method 9 visual opacity readings.
New and existing kiln and in-line kiln/raw mill b c f g D/F | EPA Method 23 ʰ.
New greenfield kiln and in-line kiln/raw mill ᶜ THC | THC CEM (EPA PS-8A) ⁱ.
New and existing clinker cooler PM | EPA Method 5 ᵃ.
New and existing clinker cooler opacity | COM d j or EPA Method 9 visual opacity readings.
New and existing raw and finish mill opacity | EPA Method 9 a j.
New and existing raw material dryer and materials handling processes (raw material storage, clinker storage, finished product storage, conveyor transfer points, bagging, and bulk loading and unloading systems) opacity | EPA Method 9 a j.
New greenfield raw material dryer THC | THC CEM (EPA PS-8A) ⁱ.
ᵃ Required initially and every 5 years thereafter.
ᵇ Includes main exhaust and alkali bypass.
ᶜ In-line kiln/raw mill to be tested with and without raw mill in operation.
ᵈ Must meet COM performance specification criteria. If the fabric filter or electrostatic precipitator has multiple stacks, daily EPA Method 9 visual opacity readings may be taken instead of using a COM.
ᵉ Opacity limit is 20 percent.
ᶠ Alkali bypass is tested with the raw mill operating or not operating.
ᵍ Temperature and (if applicable) activated carbon injection parameters determined separately with and without the raw mill operating.
ʰ Required initially and every 30 months thereafter.
ⁱ EPA Performance Specification (PS)-8A of appendix B to part 60 of this chapter.
ʲ Opacity limit is 10 percent.

6. Section 63.1350 is amended by:

a. Adding paragraphs (a)(4)(v) through (a)(4)(vii);

b. Revising paragraph (c)(2)(i);

c. Revising paragraph (d)(2)(i);

d. Revising paragraphs (e) and (e)(2);

e. Redesignating paragraph (m) as paragraph (n) and adding a new paragraph (m); and

f. Revising Table 1 to § 63.1350.

The revisions and additions read as follows:

§ 63.1350 Monitoring requirements.

(a) * * *

(4) * * *

(v) The requirement to conduct Method 22 visible emissions monitoring under this paragraph shall not apply to any totally enclosed conveying system transfer point, regardless of the location of the transfer point. “Totally enclosed conveying system transfer point” shall mean a conveying system transfer point that is enclosed on all sides, top, and bottom.

(vi) If any partially enclosed or unenclosed conveying system transfer point is located in a building, the owner or operator of the portland cement plant shall have the option to conduct a Method 22 visible emissions monitoring test according to the requirements of paragraphs (a)(4)(i) through (iv) of this section for each such conveying system transfer point located within the building, or for the building itself (according to paragraph (a)(4)(vii) of this section).

(vii) If visible emissions from a building are monitored, the requirements of paragraphs (a)(4)(i) through (iv) of this section apply to the monitoring of the building, and you must also do the following: Test visible emissions from each side, roof and vent of the building for at least 1 minute. The test must be conducted under normal operating conditions.

* * * * *

(c) * * *

(2) * * *

(i) Perform daily visual opacity observations of each stack in accordance with the procedures of Method 9 of appendix A to part 60 of this chapter. The Method 9 test shall be conducted while the affected source is operating at the representative performance conditions in accordance with § 63.7(e). The duration of the Method 9 test shall be at least 30 minutes each day.

* * * * *

(d) * * *

(2) * * *

(i) Perform daily visual opacity observations of each stack in accordance with the procedures of Method 9 of appendix A to part 60 of this chapter. The Method 9 test shall be conducted while the affected source is operating at the representative performance conditions in accordance with § 63.7(e). The duration of the Method 9 test shall be at least 30 minutes each day.

* * * * *

(e) The owner or operator of a raw mill or finish mill shall monitor opacity by conducting daily visual emissions observations of the mill sweep and air separator PMCD of these affected sources in accordance with the procedures of Method 22 of appendix A to part 60 of this chapter. The Method 22 test shall be conducted while the affected source is operating at the representative performance conditions in accordance with § 63.7(e). The duration of the Method 22 test shall be 6 minutes. If visible emissions are observed during any Method 22 visible emissions test, the owner or operator must:

* * * * *

(2) Within 24 hours of the end of the Method 22 test in which visible emissions were observed, conduct a followup Method 22 test of each stack from which visible emissions were observed during the previous Method 22 test. If visible emissions are observed during the followup Method 22 test from any stack from which visible emissions were observed during the previous Method 22 test, conduct a visual opacity test of each stack from which emissions were observed during the follow up Method 22 test in accordance with Method 9 of appendix A to part 60 of this chapter. The duration of the Method 9 test shall be 30 minutes.

* * * * *

(m) The requirements under paragraph (e) of this section to conduct daily Method 22 testing shall not apply to any specific raw mill or finish mill equipped with a continuous opacity monitor COM or bag leak detection system (BLDS). If the owner or operator chooses to install a COM in lieu of conducting the daily visual emissions testing required under paragraph (e) of this section, then the COM must be installed at the outlet of the PM control device of the raw mill or finish mill, and the COM must be installed, maintained, calibrated, and operated as required by the general provisions in subpart A of this part and according to PS-1 of appendix B to part 60 of this chapter. To remain in compliance, the opacity must be maintained such that the 6-minute average opacity for any 6-minute block period does not exceed 10 percent. If the average opacity for any 6-minute block period exceeds 10 percent, this shall constitute a violation of the standard. If the owner or operator chooses to install a BLDS in lieu of conducting the daily visual emissions testing required under paragraph (e) of this section, the requirements in paragraphs (m)(1) through (9) of this section apply to each BLDS:

(1) The BLDS must be certified by the manufacturer to be capable of detecting PM emissions at concentrations of 10 milligrams per actual cubic meter (0.0044 grains per actual cubic foot) or less. “Certify” shall mean that the instrument manufacturer has tested the instrument on gas streams having a range of particle size distributions and confirmed by means of valid filterable PM tests that the minimum detectable concentration limit is at or below 10 milligrams per actual cubic meter (0.0044 grains per actual cubic foot) or less.

(2) The sensor on the BLDS must provide output of relative PM emissions.

(3) The BLDS must have an alarm that will activate automatically when it detects a significant increase in relative PM emissions greater than a preset level.

(4) The presence of an alarm condition should be clearly apparent to facility operating personnel.

(5) For a positive-pressure fabric filter, each compartment or cell must have a bag leak detector. For a negative-pressure or induced-air fabric filter, the bag leak detector must be installed downstream of the fabric filter. If multiple bag leak detectors are required (for either type of fabric filter), detectors may share the system instrumentation and alarm.

(6) All BLDS must be installed, operated, adjusted, and maintained so that they are based on the manufacturer's written specifications and recommendations. The EPA recommends that where appropriate, the standard operating procedures manual for each bag leak detection system include concepts from EPA's “Fabric Filter Bag Leak Detection Guidance” (EPA-454/R-98-015, September 1997).

(7) The baseline output of the system must be established as follows:

(i) Adjust the range and the averaging period of the device; and

(ii) Establish the alarm set points and the alarm delay time.

(8) After initial adjustment, the range, averaging period, alarm set points, or alarm delay time may not be adjusted except as specified in the operations and maintenance plan required by paragraph (a) of this section. In no event may the range be increased by more than 100 percent or decreased by more than 50 percent over a 1 calendar year period unless a responsible official as defined in § 63.2 certifies in writing to the Administrator that the fabric filter has been inspected and found to be in good operating condition.

(9) The owner or operator must maintain and operate the fabric filter such that the bag leak detector alarm is not activated and alarm condition does not exist for more than 5 percent of the total operating time in a 6-month block period. Each time the alarm activates, alarm time will be counted as the actual amount of time taken by the owner or operator to initiate corrective actions. If inspection of the fabric filter demonstrates that no corrective actions are necessary, no alarm time will be counted. The owner or operator must continuously record the output from the BLDS during periods of normal operation. Normal operation does not include periods when the BLDS is being maintained or during startup, shutdown or malfunction.

* * * * *

Table 1 to § 63.1350.—Monitoring Requirements
Affected source/pollutant or opacity | Monitor type/operation/process | Monitoring requirements
All affected sources | Operations and maintenance plan | Prepare written plan for all affected sources and control devices.
All kilns and in-line kiln raw mills at major sources (including alkali bypass)/opacity | Continuous opacity monitor, if applicable | Install, calibrate, maintain and operate in accordance with general provisions and with PS-1.
| Method 9 opacity test, if applicable | Daily test of at least 30-minutes, while kiln is at representative performance conditions.
Kilns and in-line raw mills at major sources (including alkali bypass)/particulate matter | Particulate matter continuous monitoring systems | Deferred
Kilns and in-line kiln raw mills at major and area sources (including alkali bypass)/D/F | Combustion system inspection | Conduct annual inspection of components of combustion system.
| Continuous temperature monitoring at PMCD inlet | Install, operate, calibrate and maintain continuous temperature monitoring and recording system; calculate three-hour rolling averages; verify temperature sensor calibration at least quarterly.
| Activated carbon injection rate monitor, if applicable | Install, operate, calibrate and maintain continuous activated carbon injection rate monitor; calculate three-hour rolling averages; verify calibration at least quarterly; install, operate, calibrate and maintain carrier gas flow rate monitor or carrier gas pressure drop monitor; calculate three-hour rolling averages; document carbon specifications.
New greenfield kilns and inline kiln raw mills at major and area sources/THC | Total hydrocarbon continuous emission monitor | Install, operate, and maintain THC CEM in accordance with PS-8A; calculate 30-day block average THC concentration.
Clinker coolers at major sources/opacity | Continuous opacity monitor, if applicable | Install, calibrate, maintain and operate in accordance with general provisions and with PS-1.
| Method 9 opacity test, if applicable | Daily test of at least applicable 30-minutes, while kiln is at representative performance conditions.
Raw mills and finish mills at major sources/opacity | Method 22 visible emissions test | Conduct daily 6-minute Method 22 visible emissions test while mill is operating at representative performance conditions; if visible emissions are observed, initiate corrective action within one hour and conduct follow up Method 22 test. If visible emissions are observed, conduct 30-minute Method 9 test.
New greenfield raw material dryers at major and area sources/THC | Total hydrocarbon continuous emission monitor | Install, operate, and maintain THC CEM in accordance with PS-8A; calculate 30-day block average THC concentration.
Raw material dryers; raw material, clinker, finished product storage bins; conveying system transfer points, excluding totally enclosed conveying system transfer points; bagging systems; and bulk loading and unloading systems at major sources/opacity | Method 22 visible emissions test | As specified in operation and maintenance plan.

7. Section 63.1351 is amended by revising paragraphs (a) and (b) to read as follows:

§ 63.1351 Compliance dates.

(a) The compliance date for an owner or operator of an existing affected source subject to the provisions of this subpart is June 14, 2002.

(b) The compliance date for an owner or operator of an affected source subject to the provisions of this subpart that commences new construction or reconstruction after March 24, 1998 is June 14, 1999 or upon startup of operations, whichever is later.

* * * * *

8. Section 63.1356 is amended by revising paragraph (a) and adding paragraph (b) to read as follows:

§ 63.1356 Exemption from new source performance standards.

(a) Except as provided in paragraphs (a)(1) and (2) of this section, any affected source subject to the provisions of this subpart is exempt from any otherwise applicable new source performance standard contained in subpart F or subpart OOO of part 60 of this chapter.

* * * * *

(b) The requirements of subpart Y of part 60 of this chapter, “Standards of Performance for Coal Preparation Plants,” do not apply to conveying system transfer points used to convey coal from the mill to the kiln that are associated with coal preparation at a portland cement plant that is a major source under this subpart.

9. Section 63.1357 is amended by revising paragraph (e) to read as follows:

§ 63.1357 Temporary, conditioned exemption from particulate matter and opacity standards.

* * * * *

(e) The PM and opacity standards and associated operating limits and conditions will not be waived for more than 96 hours, in the aggregate, for the purposes of conducting tests to correlate PM CEMS with manual method test results, including all runs and conditions, except as described in this paragraph. Where additional time is required to correlate a PM CEMS device, a source may petition the Administrator for an extension of the 96-hour aggregate waiver of compliance with the PM and opacity standards. An extension of the 96-hour aggregate waiver is renewable at the discretion of the Administrator.

* * * * *

10. Table 1 to subpart LLL of part 63 is revised to read as follows:

Table 1 to Subpart LLL of Part 63.—Applicability of General Provisions
Citation | Requirement | Applies to Subpart LLL | Explaination
63.1(a)(1)-(4) | Applicability | Yes
63.1(a)(5) |  | No | [Reserved]
63.1(a)(6)-(8) | Applicability | Yes
63.1(a)(9) |  | No | [Reserved]
63.1(a)(10)-(14) | Applicability | Yes
63.1(b)(1) | Initial Applicability Determination | No | § 63.1340 specifies applicability.
63.1(b)(2)-(3) | Initial Applicability Determination | Yes
63.1(c)(1) | Applicability After Standard Established | Yes
63.1(c)(2) | Permit Requirements | Yes | Area sources must obtain Title V permits.
63.1(c)(3) |  | No | [Reserved]
63.1(c)(4)-(5) | Extensions, Notifications | Yes
63.1(d) |  | No | [Reserved]
63.1(e) | Applicability of Permit Program | Yes
63.2 | Definitions | Yes | Additional definitions in § 63.1341.
63.3(a)-(c) | Units and Abbreviations | Yes
63.4(a)(1)-(3) | Prohibited Activities | Yes
63.4(a)(4) |  | No | [Reserved]
63.4(a)(5) | Compliance date | Yes
63.4(b)-(c) | Circumvention, Severability | Yes
63.5(a)(1)-(2) | Construction/Reconstruction | Yes
63.5(b)(1) | Compliance Dates | Yes
63.5(b)(2) |  | No | [Reserved]
63.5(b)(3)-(6) | Construction Approval, Applicability | Yes
63.5(c) |  | No | [Reserved]
63.5(d)(1)-(4) | Approval of Construction/Reconstruction | Yes
63.5(e) | Approval of Construction/Reconstruction | Yes
63.5(f)(1)-(2) | Approval of Construction/Reconstruction | Yes
63.6(a) | Compliance for Standards and Maintenance | Yes
63.6(b)(1)-(5) | Compliance Dates | Yes
63.6(b)(6) |  | No | [Reserved]
63.6(b)(7) | Compliance Dates | Yes
63.6(c)(1)-(2) | Compliance Dates | Yes
63.6(c)(3)-(4) |  | No | [Reserved]
63.6(c)(5) | Compliance Dates | Yes
63.6(d) |  | No | [Reserved]
63.6(e)(1)-(2) | Operation & Maintenance | Yes
63.6(e)(3) | Startup, Shutdown Malfunction Plan | Yes
63.6(f)(1)-(3) | Compliance with Emission Standards | Yes
63.6(g)(1)-(3) | Alternative Standard | Yes
63.6(h)(1)-(2) | Opacity/VE Standards | Yes
63.6(h)(3) |  | No | [Reserved]
63.6(h)(4)-(h)(5)(i) | Opacity/VE Standards | Yes
63.6(h)(5)(ii)-(iv) | Opacity/VE Standards | No | Test duration specified in subpart LLL.
63.6(h)(6) | Opacity/VE Standards | Yes
63.6(h)(7) | Opacity/VE Standards | Yes
63.6(i)(1)-(14) | Extension of Compliance | Yes
63.6(i)(15) |  | No | [Reserved]
63.6(i)(16) | Extension of Compliance | Yes
63.6(j) | Exemption from Compliance | Yes
63.7(a)(1)-(3) | Performance Testing Requirements | Yes | § 63.1349 has specific requirements.
63.7(b) | Notification | Yes
63.7(c) | Quality Assurance/Test Plan | Yes
63.7(d) | Testing Facilities | Yes
63.7(e)(1)-(4) | Conduct of Tests | Yes
63.7(f) | Alternative Test Method | Yes
63.7(g) | Data Analysis | Yes
63.7(h) | Waiver of Tests | Yes
63.8(a)(1) | Monitoring Requirements | Yes
63.8(a)(2) | Monitoring | No | § 63.1350 includes CEMS requirements.
63.8(a)(3) |  | No | [Reserved]
63.8(a)(4) | Monitoring | No | Flares not applicable.
63.8(b)(1)-(3) | Conduct of Monitoring | Yes
63.8(c)(1)-(8) | CMS Operation/Maintenance | Yes | Performance specification supersedes requirements for THC CEMS Temperature and activated carbon injection monitoring data reduction requirements given in subpart LLL.
63.8(d) | Quality Control | Yes
63.8(e) | Performance Evaluation for CMS | Yes | Performance specification supersedes requirements for THC CEMS.
63.8(f)(1)-(5) | Alternative Monitoring Method | Yes | Additional requirements in § 63.1350(l).
63.8(f)(6) | Alternative to RATA Test | Yes
63.8(g) | Data Reduction | Yes
63.9(a) | Notification Requirements | Yes
63.9(b)(1)-(5) | Initial Notifications | Yes
63.9(c) | Request for Compliance Extension | Yes
63.9(d) | New Source Notification for Special Compliance Requirements | Yes
63.9(e) | Notification of Performance Test | Yes
63.9(f) | Notification of VE/Opacity Test | Yes | Notification not required for VE/opacity test under § 63.1350(e) and (j).
63.9(g) | Additional CMS Notifications | Yes
63.9(h)(1)-(3) | Notification of Compliance Status | Yes
63.9(h)(4) |  | No | [Reserved]
63.9(h)(5)-(6) | Notification of Compliance Status | Yes
63.9(i) | Adjustment of Deadlines | Yes
63.9(j) | Change in Previous Information | Yes
63.10(a) | Recordkeeping/Reporting | Yes
63.10(b) | General Requirements | Yes
63.10(c)(1) | Additional CMS Recordkeeping | Yes | PS-8A supersedes requirements for THC CEMS.
63.10(c)(2)-(4) |  | No | [Reserved]
63.10(c)(5)-(8) | Additional CMS Recordkeeping | Yes | PS-8A supersedes requirements for THC CEMS.
63.10(c)(9) |  | No | [Reserved]
63.10(c)(10)-(15) | Additional CMS Recordkeeping | Yes | PS-8A supersedes requirements for THC CEMS.
63.10(d)(1) | General Reporting Requirements | Yes
63.10(d)(2) | Performance Test Results | Yes
63.10(d)(3) | Opacity or VE Observations | Yes
63.10(d)(4) | Progress Reports | Yes
63.10(d)(5) | Startup, Shutdown, Malfunction Reports | Yes
63.10(e)(1)-(2) | Additional CMS Reports | Yes
63.10(e)(3) | Excess Emissions and CMS Performance Reports | Yes | Exceedances are defined in subpart LLL.
63.10(f) | Waiver for Recordkeeping/Reporting | Yes
63.11(a)-(b) | Control Device Requirements | No | Flares not applicable.
63.12(a)-(c) | State Authority and Delegations | Yes
63.13(a)-(c) | State/Regional Addresses | Yes
63.14(a)-(b) | Incorporation by Reference | Yes
63.15(a)-(b) | Availability of Information | Yes

[FR Doc. 02-8161 Filed 4-4-02; 8:45 am]

BILLING CODE 6560-50-P